DEPARTMENT OF ENERGY

Federal Energy Regulatory Commission

[Docket No. CP04-340-000]

Southern Natural Gas Company; Notice of Intent To Prepare an Environmental Assessment for the Proposed Triangle Project and Request for Comments on Environmental Issues

August 10, 2004.

The staff of the Federal Energy Regulatory Commission (FERC or Commission) will prepare an environmental assessment (EA) that will discuss the environmental impacts of the Triangle Project involving construction and operation of facilities by Southern Natural Gas Company (Southern) in Bibb, Clayton, Douglas, Fulton, Henry, Jefferson, Monroe, Richmond, Spalding, and Upson Counties, Georgia. These facilities consist of about 6.4 miles of 30-inch-diameter pipeline, four new taps and meter stations, replacement of about 420 feet of 16-inch-diameter pipeline, and auxiliary equipment. The EA will be used by the Commission in its decision-making process to determine whether the project is in the public convenience and necessity.

A fact sheet prepared by the FERC entitled “An Interstate Natural Gas Facility On My Land? What Do I Need To Know?” is available for viewing on the FERC Internet Web site (http://www.ferc.gov). This fact sheet addresses a number of typically asked questions, including how to participate in the Commission's proceedings.

Summary of the Proposed Project

Southern requests authorization to abandon by sale to Atlanta Gas Light Company (AGLC) about 253.7 miles of various pipelines located between Southern's North and South Main Lines, as well as ten meter stations and two regulator stations. In order to accomplish the transfer of these facilities to AGLC, Southern proposes to construct, install, and operate about 6.4 miles of 30-inch-diameter pipeline loop.¹ The 6.4 miles of 30-inch-diameter pipeline would extend Southern's existing Ocmulgee/Atlanta 3rd Loop Line to a point where it connects with Southern's existing Thomaston/Griffin 2nd Loop Line in Spalding County, Georgia.

¹ A loop is a segment of pipeline that is installed adjacent to an existing pipeline and connected to it on both ends. The loop allows more gas to be moved through the pipeline system.

As part of the request to abandon facilities by sale to AGLC, Southern proposes to construct four new delivery points consisting of tap, metering, and appurtenant facilities to provide service at the points of interconnection between Southern's facilities and the facilities to be purchased by AGLC. Southern proposes to construct the new delivery points at the new Ben Hill (a proposed bi-directional meter station), South Thomaston, Bass Junction, and South Atlanta Meter Stations in Fulton, Upson, Bibb, and Clayton Counties, Georgia, respectively. The proposed meter stations would be constructed on Southern's existing properties at the Ben Hill Regulator/Check Station, Thomaston Compressor Station, Bass Junction Crossover Meter Station, and the South Atlanta #1 Meter Station.

Southern also proposes to uprate about 11 miles of its 16-inch-diameter South Main Line in Jefferson and Richmond Counties, Georgia from a Maximum Allowable Operating Pressure (MAOP) of 1,100 pounds per square inch gauge (psig) to 1,200 psig in order to meet its existing firm obligations downstream as a result of the sale of facilities to AGLC. This would require the replacement of about 420 feet of 16-inch-diameter pipeline.

Southern proposes to also install auxiliary equipment to isolate its facilities from AGLC's facilities and to enable deliveries at the four new delivery points for the purpose of obtaining more efficient or more economical operation of the proposed transmission facilities.

In addition to the acquisitions from Southern, AGLC intends to construct certain nonjurisdictional facilities. These consist of: (1) A new South Atlanta Meter Station reconstructed from the South Atlanta #1 Meter Station purchased from Southern, about 1,200 feet of pipeline, and a regulator station; (2) tie-overs to AGLC's distribution system; (3) additional cathodic protection equipment/fittings along the mainlines purchased from Southern; (4) AGLC would perform work necessary to raise the MAOP of the 20-inch North Main Line and 30-inch North Main Loop Line purchased from Southern; (5) install odorization equipment; (6) a new South Thomaston Meter Station and tie-in piping; (7) a new crossover connection between the 14-inch Ocmulgee-Atlanta Loop Line and the 18-inch Ocmulgee-Atlanta 2nd Loop Line being purchased from Southern; and (8) a new Bass Junction Meter Station. These facilities would be constructed and operated under AGLC's present franchise agreements and under authority granted by the Georgia Public Service Commission.

The general location of Southern's proposed facilities is shown on the map attached as appendix 1.²

² The appendices referenced in this notice are not being printed in the Federal Register. Copies of all appendices, other than appendix 1 (map), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Construction of Southern's proposed facilities would require about 142.0 acres of land, including construction right-of-way for the loop and 16-inch-diameter mainline replacement, meter stations, extra work/staging areas, pipe storage yards, and acreage affected by construction of the ancillary facilities. The majority of the loop would be constructed directly adjacent to Southern's existing rights-of-way. For the construction of the 30-inch-diameter loop, Southern proposes to use up to a 90-foot-wide construction right-of-way, which includes a 50- to 65-foot overlap of the existing right-of-way, with 40-feet of new temporary construction right-of-way to be cleared. Because of the use of Southern's existing right-of-way for construction, Southern indicates that only about 5.0 acres would be maintained as new permanent right-of-way. For the existing 16-inch-diameter South Main Line replacement, Southern proposes to use a 70-foot-wide construction right-of-way, which includes a 30-foot overlap of the existing right-of-way, with 40-feet of new temporary construction right-of-way to be cleared.

Modifications to the meter stations and ancillary facilities needed to upgrade existing facilities would be performed within the existing Southern aboveground facilities or rights-of-way, and would not require the clearing of additional land.

Construction access to Southern's project would be via existing public and private roads. Southern has identified 10 existing private access roads necessary for the construction of its project.

The EA Process

The National Environmental Policy Act (NEPA) requires the Commission to take into account the environmental impacts that could result from an action whenever it considers the issuance of a Certificate of Public Convenience and Necessity. NEPA also requires us ³ to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

³ “We”, “us”, and “our”, refer to the environmental staff of the Office of Energy Projects (OEP).

Our independent analysis of the issues will be in the EA. Depending on the comments received during the scoping process, the EA may be published and mailed to Federal, State, and local agencies, public interest groups, interested individuals, affected landowners, newspapers, libraries, and the Commission(s official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Southern. This preliminary list of issues may be changed based on your comments and our analysis.

• Crossing of 11 perennial waterbodies and 6 wetlands.

• Impact on 10 residences located within 50 feet of the construction work area, of which eight are within 25 feet of the construction work area.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 1.

• Reference Docket No. CP04-340-000.

Mail your comments so that they will be received in Washington, DC on or before September 10, 2004.

The Commission strongly encourages electronic filing of comments. See 18 CFR 385.2001(a)(1)(iii) and the instructions on the Commission's Web site at http://www.ferc.gov under the “e-Filing” link and the link to the User's Guide. Before you can file comments you will need to create a free account which can be created on-line.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's e-Filing system) or 14 paper copies of its filings to the Secretary of the Commission and must send a copy of its filings to all other parties on the Commission's service list for this proceeding. If you want to become an intervenor you must file a motion to intervene according to Rule 214 of the Commission(s Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in appendix 3, to express their interest in becoming cooperating agencies for the preparation of the EA.

If you do not want to send comments at this time, but still want to remain on our mailing list, please return the Information Request (appendix 4). If you do not return the Information Request, you will be taken off the mailing list.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, site visits will be posted on the Commission's calendar located at http://www.ferc.gov/EventCalendar/EventsList.aspx along with other related information.

Magalie R. Salas,
Secretary.

[FR Doc. E4-1832 Filed 8-16-04; 8:45 am]

BILLING CODE 6717-01-P